DEPARTMENT OF TRANSPORTATION

National Highway Traffic Safety Administration

[Docket No. NHTSA-2012-0005; Notice 1]

Ford Motor Company, Receipt of Petition for Decision of Inconsequential Noncompliance

AGENCY: National Highway Traffic Safety Administration, DOT.

ACTION: Receipt of petition.

SUMMARY: Ford Motor Company ¹ (Ford) has determined that certain model year 2011 Ford E-150, E-250, E-350 and E-450 motor vehicles manufactured between May 12, 2011 and May 25, 2011, do not fully comply with paragraph S5.1 of Federal Motor Vehicle Safety Standard (FMVSS) No. 205, Glazing Materials. Ford has filed an appropriate report pursuant to 49 CFR part 573, Defect and Noncompliance Responsibility and Reports (dated August 22, 2011).

¹ Ford Motor Company is a motor vehicle manufacturer incorporated under the laws of the state of Delaware.

Pursuant to 49 U.S.C. 30118(d) and 30120(h) (see implementing rule at 49 CFR part 556), Ford has petitioned for an exemption from the notification and remedy requirements of 49 U.S.C. Chapter 301 on the basis that this noncompliance is inconsequential to motor vehicle safety.

This notice of receipt of Ford's petition is published under 49 U.S.C. 30118 and 30120 and does not represent any agency decision or other exercise of judgment concerning the merits of the petition.

Affected are approximately 4,532 model year 2011 Ford E-150, E-250, E-350 and E-450 trucks manufactured between May 12, 2011 and May 25, 2011 at Ford's Ohio assembly plant are affected.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 4,532 ² subject vehicles that Ford no longer controlled at the time it determined that the noncompliance existed.

² Ford's petition, which was filed under 49 CFR part 556, requests an agency decision to exempt Ford as a vehicle manufacturer from the notification and recall responsibilities of 49 CFR part 573 for the 4,532 affected vehicles. However, a decision on this petition cannot relieve vehicle distributors and dealers of the prohibitions on the sale, offer for sale, introduction or delivery for introduction into interstate commerce of the noncompliant vehicles under their control after Ford notified them that the subject noncompliance existed.

Ford described the noncompliance as the formation of air bubbles in the windshields when subjected to high temperatures specified in paragraph S5.1 of FMVSS No. 205.

Paragraph S5.1 of FMVSS No. 205 requires in pertinent part:

S5.1 Glazing materials for use in motor vehicles must conform to ANSI/SAE Z26.1-1996 unless this standard provides otherwise.

S5.1.1 Multipurpose passenger vehicles. Except as otherwise specifically provided by this standard, glazing for use in multipurpose passenger vehicles shall conform to the requirements for glazing for use in trucks as specified in ANSI/SAE Z26.1-1996 * * *

Ford expressed its belief that only approximately 100 of the 4,532 subject vehicles may actually develop air bubbles in their windshields.

Ford argues that paragraph S5.1 of FMVSS No. 205 specifies meeting the requirements of ANSI Z26.1-1996 Section 5.4 Boil, Test 4. The affected paragraph 5.4.3 “Interpretation of Results” states “The glass itself may crack in this test, but no bubbles or other defects shall develop more than 13 mm from the outer edge of the specimen or from any cracks that may develop.” Although the affected windshields may develop air bubbles, Ford believes this condition does not present a risk to motor vehicle safety for the reasons described below.

The initiation of the air bubbles will most likely occur when the vehicle is parked in the sun with ambient temperatures greater than 80 °F, and they occur very early in the life of the vehicle. This was the case for the initial vehicles that exhibited the condition while still at the assembly plant, that was experiencing high seasonal temperatures at the time. Of the 41 field reports of the condition that had occurred as of August 16, 2011, only one occurred subsequent to delivery to a customer. All other field reports were found during pre-delivery vehicle preparation.

The appearance of the air bubbles is a slow process, and there are no reports of air bubbles affecting the entire windshield. If bubbles do occur in the driver vision zone, the vision zone is initially only partially affected. This condition would be noticed by the customer prior to a significant spread of the air bubbles, and the customer would seek repair under Ford's normal 3/36 warranty.

Ford is not aware of accidents or injuries attributed to this condition.

In summation, Ford believes that the described noncompliance of its vehicles to meet the requirements of FMVSS No. 225 is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to: U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1 (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: March 5, 2012.

Authority: 49 U.S.C. 30118, 30120: delegations of authority at CFR 1.50 and 501.8.

Issued on: January 27, 2012.
Claude H. Harris,
Director, Office of Vehicle Safety Compliance.

[FR Doc. 2012-2306 Filed 2-1-12; 8:45 am]

BILLING CODE 4910-59-P